DEPARTMENT OF ENERGY

Federal Energy Regulatory Commission

Combined Notice of Filings #1

Take notice that the Commission received the following electric rate filings:

Docket Numbers: ER10-1276-006; ER10-1292-005; ER10-1287-005; ER10-1303-005; ER10-1319-007; ER10-1353-007.

Applicants: Consumers Energy Company, CMS Energy Resource Management Company, Grayling Generation Station Limited Partnership, Genesee Power Station Limited Partnership, CMS Generation Michigan Power, LLC, Dearborn Industrial Generation, L.L.C.

Description: Notice of Non-Material Change in Status of Consumer Energy Company, et. al.

Filed Date: 5/2/16.

Accession Number: 20160502-5474.

Comments Due: 5 p.m. ET 5/23/16.

Docket Numbers: ER10-1285-007.

Applicants: Consumers Energy Company.

Description: Notice of Non-Material Change in Status of Craven County Wood Energy Limited Partnership.

Filed Date: 5/2/16.

Accession Number: 20160502-5476.

Comments Due: 5 p.m. ET 5/23/16.

Docket Numbers: ER16-1616-000.

Applicants: Puget Sound Energy, Inc.

Description: § 205(d) Rate Filing: Orcas NITSA S.A. No 792 and Orcas NOA S.A No 793 to be effective 5/1/2016.

Filed Date: 5/3/16.

Accession Number: 20160503-5124.

Comments Due: 5 p.m. ET 5/24/16.

Docket Numbers: ER16-1617-000.

Applicants: PJM Interconnection, L.L.C.

Description: Tariff Cancellation: Notice of Cancellation of WMPA SA No. 3445, Queue No. X1-073 due to Breach to be effective 5/3/2016.

Filed Date: 5/3/16.

Accession Number: 20160503-5142.

Comments Due: 5 p.m. ET 5/24/16.

Docket Numbers: ER16-1618-000.

Applicants: Southwest Power Pool, Inc.

Description: § 205(d) Rate Filing: 2953 Cottonwood Wind Project, LLC GIA Cancellation to be effective 4/13/2016.

Filed Date: 5/4/16.

Accession Number: 20160504-5032.

Comments Due: 5 p.m. ET 5/25/16.

Docket Numbers: ER16-1619-000.

Applicants: Maine Power Express, LLC.

Description: Application for Authority to sell transmission rights at negotiated rates of Maine Power Express, LLC.

Filed Date: 5/2/16.

Accession Number: 20160502-5464.

Comments Due: 5 p.m. ET 5/23/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 4, 2016.
Nathaniel J. Davis, Sr.,
Deputy Secretary.

[FR Doc. 2016-11525 Filed 5-13-16; 8:45 am]

BILLING CODE 6717-01-P